DEPARTMENT OF COMMERCE

Bureau of the Census

[Docket Number: 070306047-7048-01]

Procedures for Participation in the 2010 Decennial Census Local Update of Census Addresses (LUCA) Program

AGENCY: Bureau of the Census, Department of Commerce.

ACTION: Notice and request for comments.

SUMMARY: The Bureau of the Census (Census Bureau) is requesting public comment on the proposed procedures for developing the specific components of an address list review program, known as the Local Update of Census Addresses (LUCA) program. The Census Bureau will use the LUCA program to help develop the housing unit and group quarters (e.g., college dormitory, nursing home, correctional facility, etc.) address information that it will need to conduct the 2010 Decennial Census. The program will be available to tribal, state, and local governments, and the District of Columbia and Puerto Rico (or their designated representatives), in areas for which the Census Bureau performs a precensus address canvassing operation (excluded are sparsely settled areas in the states of Alaska and Maine). The LUCA program includes federally recognized American Indian tribes with reservations and/or off-reservation trust lands, states, and general-purpose local governments, such as cities and townships, for which the Census Bureau reports data. This notice provides information about the three proposed options available to participants for reviewing and annotating the 2010 Census LUCA materials, as well as a description of the feedback materials that will be provided to participants following their participation. A future notice will announce the establishment outside the Department of Commerce (DOC) of the Census Address List Appeals process that will be established by the Office of Management and Budget (OMB) for the 2010 Census LUCA Operation. The Census Bureau and the OMB will publish a separate Federal Register Notice seeking comments on this Appeal process at a later date.

DATES: Any comments, questions, suggestions, or recommendations concerning these proposed procedures should be submitted in writing by August 6, 2007.

ADDRESSES: Please send any correspondence about the 2010 Census LUCA program procedures to Ms. Teresa Angueira, Associate Director for Decennial Census, U.S. Census Bureau, Washington, DC 20233.

FOR FURTHER INFORMATION CONTACT: For information about the Census Bureau's 2010 Census LUCA program, contact Mr. Robert A. LaMacchia, Chief, Geography Division, U.S. Census Bureau, Washington, DC 20233-7400; telephone (301) 763-2131; fax (301) 763-4710; or by e-mail at robert.a.lamacchia@census.gov.

SUPPLEMENTARY INFORMATION:

The Census Address List Improvement Act of 1994

The Census Address List Improvement Act of 1994 (Pub. L. 103-430, Oct 31, 1994, 108 Stat. 4393) mandates the procedures to be used by the Census Bureau for developing the decennial census address list, and address lists for other censuses and surveys conducted by the Census Bureau. The Act's provisions direct the Secretary of Commerce to: (1) Publish standards defining the content and structure of address information that tribal, state, and local governments may submit to be used for developing a national address list; (2) develop and publish a timetable for the Census Bureau to receive, review, and respond to submissions; and (3) provide a response to the submissions regarding the Census Bureau's determination for each address. The Act provides that OMB's Administrator of the Office of Information and Regulatory Affairs, acting through the Chief Statistician and in consultation with the Bureau of the Census, shall develop an appeals process for tribal, state, and local governments to appeal determinations of the Census Bureau. The Act also directs the U.S. Postal Service to provide the Secretary of Commerce with address information, as may be determined by the Secretary to be appropriate for use by the Census Bureau.

The Act authorizes the Census Bureau to provide designated officials of tribal, state, and local governments (who agree to pledges and conditions of confidentiality) with access to census addresses information. Prior to Census 2000, the Census Bureau was limited to providing block summary totals of addresses to tribal, state, and local governments. Census 2000 marked the first decennial census where tribal and local governments, which signed the required confidentiality agreement, were able to review the census address list.

The 2010 Census LUCA Program Process

The Census Bureau is using the 2010 Census LUCA program to help develop the address information it needs to conduct the 2010 Census. The 2010 Census LUCA program is available to tribal, state, and local governments (or their designated representatives) in areas for which the Census Bureau is developing its address list in advance of the 2010 Census. Jurisdictions or parts of jurisdictions with special enumeration needs are not eligible to receive 2010 Census LUCA materials. These areas may include remote, sparsely populated areas, and/or resort areas.

Beginning in January 2007, the Census Bureau mailed pre-invitation letters and LUCA information booklets (called the Advance Notification package) to tribal, state, and local governments eligible to participate in the nationwide 2010 Census LUCA program. The purpose of the Advance Notification package is to provide tribal, state, and local governments with samples of the LUCA program materials and lead-time to begin planning their strategy for participation in the 2010 Census LUCA program. In August 2007, the Census Bureau plans to mail the LUCA invitation letters and registration materials to tribal, state, and local governments, formally inviting them to participate in the 2010 Census LUCA program. The Census Bureau plans a telephone follow-up to non-responding governments, followed by a final reminder/closeout letter in November 2007 to all non-responding governments.

The 2010 Census LUCA program differs from the Census 2000 LUCA program. One notable change is that, for the first time, states will be invited to participate and review the Census Bureau's address list for the entire state (with the exception noted in the next paragraph), selected substate areas, and selected address types. When conflicts arise between the geographic assignment and depiction of the same address from different levels of government, the Census Bureau will attempt to validate the most local level of government's version of the address.

Another change from Census 2000 LUCA concerns the suppression from the state and local LUCA address list of all addresses contained within the boundary of any American Indian reservation or off-reservation trust land recognized by the federal government. These addresses appear only on LUCA materials provided to participating tribal governments. This is in keeping with the Census Bureau's recognition of the unique government-to-government relationship between the federal government and federally-recognized tribal governments. The Census Bureau encourages tribal governments to coordinate their work with non-tribal governments in overlapping areas, to ensure that all addresses are identified for census purposes. If a tribal government chooses not to participate in the LUCA program, the Census Bureau encourages the tribe to delegate authority to review the address list to a state, county, or local government.

Using information gathered from various surveys and evaluations of the Census 2000 LUCA program, the Census Bureau has streamlined the 2010 Census LUCA program. For the 2010 Census LUCA program, all eligible LUCA participants will review their entire address list at one time, instead of in phases based on address type as was done for the Census 2000 LUCA program. Each tribal, state, and local government that participates in the 2010 Census LUCA program will have 120 calendar days, from the time it receives its materials, to conduct its review of the census address list and maps.

Tribal, state, and local governments will be required to return their completed registration package to the Census Bureau, postmarked by November 19, 2007, to be eligible for the full 120-day review period. The last date that the Census Bureau will accept 2010 Census LUCA registration packages from tribal, state, and local governments is December 31, 2007. Participants who register late will have a shorter review period. The latest date will be April 4, 2008 (receipt date), for which LUCA participants can return their submission to the Census Bureau in order for the Census Bureau to review and process the submission in time for the nationwide Address Canvassing Operation.

For the 2010 Census LUCA program, participants can choose from one of three options described below.¹ Participants will receive review materials in either paper or computer-readable formats, or may use Census Bureau-supplied software to update their jurisdiction's map features and address list. Jurisdictions with more than 6,000 addresses will be required to participate using a computer-readable address list.

¹ Puerto Rico participants will be restricted to Option 1 because of address matching complexities unique to Puerto Rico.

A nationwide field check, called the Address Canvassing Operation, is planned for February 2009 through June 2009 to verify the census address list, including the qualifying updates supplied by 2010 Census LUCA participants. During this operation, Census Bureau field staff will add, delete, and correct entries on the census address list and make needed corrections to the census maps. Census Bureau LUCA feedback to LUCA participants will be based on the results of Address Canvassing.

Section 3 of the Census Address List Improvement Act of 1994 requires the Administrator of the Office of Information and Regulatory Affairs at the Office of Management and Budget (OMB), in consultation with the Census Bureau, to develop an Appeal process outside DOC to resolve any disagreements that may remain after participating governments receive the Census Bureau's Detailed Feedback/Final Determination materials. The Census Bureau and OMB will jointly publish, at a later date, a separate Federal Register Notice describing the Appeal process.

Described below are the three participation options for the 2010 Census LUCA program.

Option 1—Title 13 Full Address List Review

The Full Address List Review option will require that the participant sign the Confidentiality Agreement in accordance with Title 13, United States Code. Jurisdictions selecting this option should first determine that they have the time and resources to review and comment on the 2010 Census LUCA Address List. This option is also the only option that governments can choose if their jurisdiction contains only noncity-style addresses (e.g., rural route/box number, post office box, general delivery, descriptive addresses), because it is the only option that allows the participant to challenge the count of addresses in a census block, as described below.

The Full Address List Review participants will receive the 2010 Census Address List, the Address Count List (a count of addresses within each census block), and maps or digital shape files of their jurisdiction. Participants who select this option must have the means to secure the census address list and maps or shapefiles containing confidential Title 13 information, as described in the 2010 LUCA Security Guidelines, which will be included in the invitation package to be shipped to all eligible governments in August 2007. The 2010 Census Address List and the Address Count List will be available as a paper or computer-readable product. The Census Bureau maps will be available in paper format for tribal and local governments (not state), or shape files for use in their Geographic Information System (GIS). Alternatively, the participant may choose to use the Census Bureau-supplied software that combines the census address list and shape files within an easy-to-use GIS tool. Details regarding this software are contained within the promotional materials that eligible tribal, state, and local governments have been sent and will also be covered in the training workshops to be held in summer/fall of 2007.

Although the 2010 Census Address List will contain city-style (house number and street name, used for mail delivery or E-911) as well as noncity-style addresses, participants can only add and/or provide updates (including deletions) for city-style addresses. Each address added by a participant must be “geocoded,” that is, associated with a census tract and census block number identifying its location. The census tract and census block numbers appear on the Census Bureau-supplied maps, digital shape files, and the Census Bureau-supplied GIS software tool.

The Census Bureau limits address updates to city-style addresses because noncity-style addresses are not usually locational and are subject to change. However, participants may challenge the address count for a census block on the Address Count List regardless of the type of addresses it contains. Participants do this by providing what they believe is the correct number of addresses for the census block. Participants cannot provide both updates for individual addresses on the 2010 Census Address List and challenge the count of addresses on the Address Count List for the same census block.

As is true for all three options, the LUCA participant may make updates and/or corrections to the features and boundaries on the Census Bureau maps (with one exception: State participants cannot update boundaries unless they are the designated reviewer for a county, township, city, town, or reservation). The Census Bureau maps will be available to participants in paper format, or as digital shape files for use in their GIS. Alternatively, participants may choose to use the Census Bureau-supplied software that combines the Address List, the Address Count List, and shape files within an easy-to-use GIS tool.

A nationwide field check, called the Address Canvassing Operation, is planned for February 2009 through June 2009 to verify the census address list, including the qualifying updates supplied by 2010 Census LUCA participants. During this operation, Census Bureau field staff will add, delete, and correct entries on the confidential census address list and make needed corrections to the census maps.

Option 2—Title 13 Local Address List Submission

The Title 13 Local Address List Submission option will require that the participant sign the Confidentiality Agreement in accordance with Title 13, United States Code. Participants who select this option must have the means to secure the census address list and maps or shapefiles containing Title 13 information, according to the 2010 LUCA Security Guidelines (included in the invitation package and on the Web). Title 13 Local Address List Submission is a new 2010 Census LUCA option intended for those participants who may not have the time or resources to update the 2010 Census LUCA Address List, but who wish to submit their local address list for Census Bureau use. For Option 2, the 2010 Census Address List and the Address Count List will be available only as computer-readable products. The Census Bureau maps are available to participants in paper format or as shape files for use with their GIS. Alternatively, participants may select the Census Bureau-supplied software that combines the census Address List, Address Count List, and shape files within an easy-to-use GIS tool.

Option 2 LUCA participants will receive the 2010 Census LUCA Address List containing city-style and noncity-style addresses and the Address Count List. These materials are to be used for reference purposes only. Option 2 LUCA participants must submit their local city-style address list in a Census Bureau-defined computer-readable format. The Census Bureau cannot accept a LUCA participant's local address list in paper format and cannot accept computer-readable local address lists containing noncity-style addresses. Each address submitted by a participant must be “geocoded,” that is, associated with a census tract and census block number identifying its location. The census tract and census block numbers appear on the Census Bureau-supplied maps, digital shape files, and the Census Bureau-supplied GIS software tool.

As is true for all three options, the LUCA participant may make updates and/or corrections to the features and boundaries on the Census Bureau maps (with one exception: State participants cannot update boundaries unless they are the designated reviewer for a county, township, city, town, or reservation). The Census Bureau maps will be available to participants in paper format or as shape files for use in their GIS. Alternatively, participants may choose to use the Census Bureau-supplied software that combines the Address List, Address Count List and shape files within an easy-to-use GIS tool.

A nationwide field check, called the Address Canvassing Operation, is planned for February 2009 through June 2009 to verify the census address list, including the qualifying updates supplied by 2010 Census LUCA participants. During this operation, Census Bureau field staff will add, delete, and correct entries on the census address list and make needed corrections to the census maps.

Option 3—Non-Title 13 Local Address List Submission

Non-Title 13 Local Address List Submission is a new LUCA option for the 2010 Census. It is intended for those participants who may not have the time or resources to update the 2010 Census LUCA Address List and/or are unable to meet Title 13 security requirements, but who wish to submit their local address list for Census Bureau use. The Non-Title 13 Local Address List Submission option will not require the participant to sign the Confidentiality Agreement, since they will not be receiving Title 13 data. Instead, participants will receive only the 2010 Census LUCA Address Count List in computer-readable format, which they may use for reference purposes only. The Census Bureau maps will be available to participants in paper format or as shape files for use in their GIS. Alternatively, participants may choose to use the Census Bureau-supplied software that combines the census Address Count List and shape files within an easy-to-use GIS tool.

Option 3 LUCA participants must submit their local city-style address list in a Census Bureau-defined, computer-readable format. The Census Bureau cannot accept Option 3 LUCA local address lists in paper format and cannot accept noncity-style addresses contained in a computer-readable local address list. Each address submitted by a participant must be “geocoded,” (i.e., associated with a census tract and census block number identifying its location). The census tract and census block numbers appear on the Census Bureau-supplied maps, digital shape files, and the Census Bureau-supplied GIS software tool.

As is true for all three options, the LUCA participant may make updates and/or corrections to the features and boundaries on the Census Bureau maps (with one exception: State participants cannot update boundaries unless they are the designated reviewer for a county, township, city, town, or reservation). The Census Bureau maps will be available to participants in paper format or as shape files for use in their GIS. Alternatively, participants may choose to use the Census Bureau-supplied software that combines the Address Count List and shape files within an easy-to-use GIS tool.

A nationwide field check, called the Address Canvassing Operation, is planned for February 2009 through June 2009 to verify the census address list, including the qualifying updates supplied by 2010 Census LUCA participants. During this operation, Census Bureau field staff will add, delete, and correct entries on the census address list and make needed corrections to the census maps.

LUCA Feedback Process for Option 1—Title 13 Full Address List Review

The Census Bureau will review and computer-match each participant-submitted address and provisionally update the census address list with the qualifying submissions, and then verify the addresses during the Address Canvassing Operation. The Address Canvassing Operation will ensure that all the addresses exist and that they are in the correct census block.

The Census Bureau will provide 2010 Census LUCA Feedback materials to each tribal, state, and local government that submitted an acceptable list of city-style addresses. The Census Bureau will provide the 2010 Census LUCA Feedback materials on a flow basis to qualifying jurisdictions during August to October 2009 after completion of the Address Canvassing Operation.

The 2010 Census LUCA Feedback materials will document which 2010 Census LUCA address submissions the Census Bureau could and could not verify in the Address Canvassing Operation. The 2010 Census LUCA Feedback materials, which will be provided in the media originally requested by the participant, include:

(1) A 2010 Census LUCA Feedback Report covering the specific address updates submitted by the participant and actions taken on those addresses by the Census Bureau.

(2) An updated 2010 Census LUCA Feedback Address List that contains all of the census addresses verified by the 2010 Census Address Canvassing operation within the participating jurisdiction's boundary.

(3) An updated Address Count List documenting the number of housing unit and group quarters addresses in each census block within the participating jurisdiction's boundary.

(4) An updated Address Count List displaying just the blocks challenged by participants. This list will document the block count provided by the participant and the final block count from the Address Canvassing Operation.

(5) A set of updated Census Bureau maps or shape files covering the participating jurisdiction.

If participants disagree with the 2010 Census LUCA Address List or Address Count Feedback materials, they may file an appeal through the process that will be established by OMB outside DOC.

LUCA Feedback Process for Option 2—Title 13 Local Address List Submission

The Census Bureau will review and computer-match each participant-submitted address and provisionally update the census address list with the qualifying submissions, and then verify the addresses during the Address Canvassing Operation. The Address Canvassing Operation will ensure that all the addresses exist and that they are in the correct census block.

The Census Bureau will provide 2010 Census LUCA Feedback materials to each tribal, state, and local government that submitted an acceptable list of city-style addresses. The Census Bureau will provide the 2010 Census LUCA Feedback materials on a flow basis to qualifying jurisdictions during August to October 2009 after completion of the Address Canvassing Operation.

The 2010 Census LUCA Feedback materials will document which 2010 Census LUCA address submissions the Census Bureau verified in the field and which ones it could not verify. The 2010 Census LUCA Feedback materials, which will be provided in the media originally requested by the participant, include:

(1) A 2010 Census LUCA Feedback Report covering the specific address updates submitted by the participant and actions taken on those addresses by the Census Bureau.

(2) An updated 2010 Census LUCA Address List that contains all of the census addresses assigned within the participating jurisdiction's boundary.

(3) An updated Address Count List documenting the number of housing unit and group quarters addresses in each census block within the participating jurisdiction's boundary.

(4) A set of updated Census Bureau maps or shape files covering the participating jurisdiction.

If participants disagree with the 2010 Census LUCA Feedback on their submitted address list, they may file an appeal through the process that will be established by OMB outside DOC.

LUCA Feedback Process for Option 3—Non-Title 13 Local Address List Submission

The Census Bureau will review and computer-match each participant-submitted address and provisionally update the census address list with the qualifying submissions, and then verify the addresses during the Address Canvassing Operation. The Address Canvassing Operation will ensure that all addresses exist and that they are in the correct census block.

The Census Bureau will provide 2010 Census LUCA Feedback materials to each tribal, state, and local government that submitted an acceptable list of city-style addresses. The Census Bureau will provide the 2010 Census LUCA Feedback materials on a flow basis to qualifying jurisdictions during August to October 2009 after completion of the Address Canvassing Operation.

The 2010 Census LUCA Feedback materials, which will be provided in the media originally requested by the participant, include:

(1) An updated Address Count List documenting the number of addresses in each census block within the jurisdiction.

(2) A set of updated Census Bureau maps or shape files for the jurisdiction.

Option 3 participants will not be able to file an Appeal since their Non-Title 13 status means they will not receive the detailed address level feedback necessary for an Appeal. For Option 3 participants, the Census Bureau's 2010 Census LUCA program will be officially completed at the time the Census Bureau provides the LUCA Feedback materials to the participant.

Executive Order 12866

This notice has been determined to not be significant under Executive Order 12866.

Paperwork Reduction Act

This program is subject to the requirements of the Paperwork Reduction Act, Title 44, United States Code, Chapter 35. The Census Bureau has initiated its request for clearance by the Office of Management and Budget.

Dated: June 18, 2007.
Charles Louis Kincannon,
Director, Bureau of the Census.

[FR Doc. E7-12160 Filed 6-21-07; 8:45 am]

BILLING CODE 3510-07-P